DEPARTMENT OF EDUCATION

[Docket No. ED-2018-ICCD-0072]

2019-20 National Postsecondary Student Aid Study (NPSAS: 20) Field Test Institution Contacting and Enrollment List Collection; Cancellation

AGENCY: National Center for Education Statistics (NCES), Department of Education (ED).

ACTION: Notice of cancellation.

SUMMARY: On July 3, 2018, the Department of Education (ED) published a 60 day comment period notice in the Federal Register with FR DOC #2018-14441 (Page 31383, Column 2 and 3; Page 31384, Column 1 and 2) seeking public comment for an information collection entitled, “2019-20 National Postsecondary Student Aid Study (NPSAS:20) Field Test Institution Contacting and Enrollment List Collection” conducted by the National Center for Education Statistics (NCES). The Department of Education would like to cancel that public comment period notice. NCES intends to conduct the NPSAS:20 full-scale study as planned from October 2019 to November 2020. In March 2019, NCES will publish a notice in the Federal Register for a 60-day public comment period followed by a 30-day comment period for NPSAS:20 Full-Scale Institution Contacting and Enrollment List Collection clearance request.

The NPSAS:20 full-scale study will use methods and survey items that have already been used in previous cycles of NPSAS. In addition, NCES is developing a cognitive testing plan that will allow pre-testing of a subset of questions from the planned NPSAS:20 student interview. NCES expects to submit a clearance request for these cognitive testing activities by July 2019.

The Acting Director, Information Collection Clearance Division, Office of the Chief Privacy Officer, Office of Management, hereby issues a cancellation notice as required by the Paperwork Reduction Act of 1995.

Dated: August 27, 2018.
Kate Mullan,
Acting Director, Information Collection Clearance Division, Office of the Chief Privacy Officer, Office of Management.

[FR Doc. 2018-18840 Filed 8-29-18; 8:45 am]

BILLING CODE 4000-01-P